ADMINISTRATIVE CONFERENCE OF THE UNITED STATES

Notice of Public Meeting of the Assembly of the Administrative Conference of the United States

AGENCY: Administrative Conference of the United States.

ACTION: Notice.

SUMMARY: Pursuant to the Federal Advisory Committee Act (Pub. L. 92-463), the Assembly of the Administrative Conference of the United States will hold a meeting to consider three proposed recommendations and to conduct other business. This meeting will be open to the public.

DATES: The meeting will take place on Thursday, December 6, 2012, 2:00 p.m. to 6:00 p.m., and on Friday, December 7, 2012, 9:00 a.m. to 12:30 p.m. Please note that the meeting may adjourn early if all business is finished.

ADDRESSES: The meeting will be held at the Commodity Futures Trading Commission, Three Lafayette Centre, 1155 21st Street NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to administrative agencies, the President, Congress, and the Judicial Conference of the United States regarding the improvement of Federal administrative procedures (5 U.S.C. 594). The membership of the Conference, when meeting in plenary session, constitutes the Assembly of the Conference (5 U.S.C. 595).

Agenda: The Assembly will discuss and consider the following matters:

• Opening Remarks

• Presentation of the Conference's Sourcebook of United States Executive Agencies

• Recommendation on “Need To Reform 28 U.S.C. 1500”

• Recommendation on “Third-Party Programs To Assess Regulatory Compliance”

• Presentation of the Second Annual Walter Gellhorn Innovation Award

• Web site Updates

• Recommendation on “Inflation Adjustment for Civil Penalties”

• Update on Current Research Projects and Discussion of Future Topics

Additional information about the proposed recommendations, as well as other materials related to the meeting, can be found at the “Research” and “Events” sections of the Conference's Web site (www.acus.gov).

Public Participation: The Conference welcomes the attendance of the public at the meeting, subject to space limitations, and will make every effort to accommodate persons with disabilities or special needs. Members of the public who wish to attend in person are asked to RSVP via email (comments@acus.gov), no later than two business days before the meeting, in order to facilitate entry. Members of the public who attend the meeting may be permitted to speak only with the consent of the Chairman and the unanimous approval of the members. If you need special accommodations due to disability, please inform the Designated Federal Officer noted above at least 7 days in advance of the meeting. Members of the public may also view the meeting virtually. A live Webcast of the meeting will be available at: http://www.acus.gov/events/57th-plenary-session/. In addition, the public may follow the meeting on our Twitter feed @acusgov or hashtag #57thPlenary.

Written Comments: Persons who wish to comment on any of the proposed recommendations may do so by submitting a written statement either by email to comments@acus.gov (with “December 2012 Plenary Session Comments” in the subject line), or by mail addressed to: December 2012 Plenary Session Comments, Administrative Conference of the United States, Suite 706 South, 1120 20th Street NW., Washington, DC 20036. Written submissions must be received at least 5 business days prior to the meeting to assure consideration by the Assembly.

Dated: November 14, 2012.
David Pritzker,
Deputy General Counsel.

[FR Doc. 2012-28036 Filed 11-16-12; 8:45 am]

BILLING CODE 6110-01-P